DEPARTMENT OF THE INTERIOR

Bureau of Land Management

[CO-200-1220-BY]

Notice of Closure to Motorized Vehicles

AGENCY: Bureau of Land Management, Interior.

ACTION: Temporary closure order for motorized vehicle travel.

SUMMARY: Notice is hereby given that effective May 7th, 2001 certain public lands in Fremont County are closed to all types of motorized vehicle travel. The public lands are located approximately 2 miles northwest of Penrose, Colorado to the west of the Brush Hollow Reservoir. The purpose of this closure is to prevent the development of unauthorized user-created trails, to prevent resource damage to soils and vegetation, to prevent illegal dumping, and to reduce the impacts to wildlife. Future interdisciplinary planning will determine the appropriate travel routes for these areas.

EFFECTIVE DATES: These closures are effective May 7th, 2001 and shall remain in effect until revised, revoked or amended.

ADDRESSES: Royal Gorge Field Office, 3170 East Main Street, Canon City, CO 81212; Telephone (719) 269-8500.

FOR FURTHER INFORMATION CONTACT: Levi D. Deike, Field Office Manager or Diana Kossnar, Outdoor Recreation Planner at the address listed above or 719-269-8500.

SUPPLEMENTARY INFORMATION: The public lands affected by this temporary closure are identified as follows:

Sixth Principal Meridian

T.18S.,R.69W.

Section 24, S½NW¼, W½SW¼, W½SE¼ (240 acres)

This closure does not apply to emergency, law enforcement, and federal or other government vehicles while being used for official or emergency purposes, or to any vehicle whose use is expressly authorized or otherwise officially approved by BLM. Violation of this order is punishable by fine and/or imprisonment as defined in 18 U.S.C. 3571. Notice of this closure and a detailed map will be posted at the Royal Gorge Field Office in Canon City.

Levi D. Deike,
Field Office Manager.

[FR Doc. 01-10752 Filed 4-30-01; 8:45 am]

BILLING CODE 4310-JB-M